DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). This information collection request has expired; however, reinstatement is requested because the collection of information is still required when selling Government High Risk personal property. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 4, 2010. If you anticipate difficulty in submitting comments within that period, contact the person listed below as soon as possible.

ADDRESSES: Written comments should be sent to the following: Helene Mattiello, Industrial Property Management Specialist, MA-632/L'Enfant Plaza Building, U.S. Department of Energy, 1000 Independence Avenue, SW., Washington, DC 20585-1615, helene.mattiello@hq.doe.gov.

FOR FURTHER INFORMATION CONTACT: Helene Mattiello, at the above address, or by telephone at (202) 287-1593, or by fax at (202) 287-1656.

SUPPLEMENTARY INFORMATION: This information collection request contains: (1) OMB No. 1910-5121; (2) Information Collection Request Title: End-Use Certificate; (3) Type of Review: Renewal; (4) Purpose: The End-Use Certificate (EUC) is intended to determine the acceptability of the individual(s) acquiring High Risk Personal Property; inform buyers of the laws and regulations governing the use, disposition, export and re-export of High Risk Personal Property and ensure that the property is used as stipulated in the EUC.; (5) Respondents: 1000 annually; and (6) Estimated Number of Burden Hours: 334 (approximately 20 minutes per respondent).

Authority: Department of Energy Personal Property Management Guide, DOE G 580.1-1.

Issued in Washington, DC on October 29, 2009.
Edward R. Simpson,
Director, Office of Procurement and Assistance Management, Department of Energy.

[FR Doc. E9-26698 Filed 11-4-09; 8:45 am]

BILLING CODE 6450-01-P